DEPARTMENT OF DEFENSE

Department of the Navy

Notice of Intent To Grant Partially Exclusive Patent License; ReconRobotics, Inc.

AGENCY: Department of the Navy, DoD.

ACTION: Notice.

SUMMARY: The Department of the Navy hereby gives notice of its intent to grant to ReconRobotics, Inc., a revocable, nonassignable, partially exclusive license in the United States to practice the Government-owned invention described in Navy Case No. 101027—Magnetic Wheel.

DATES: Anyone wishing to object to the grant of this license must file written objections along with supporting evidence, if any, not later than November 17, 2011.

ADDRESSES: Written objections are to be filed with the Office of Research and Technology Applications, Space and Naval Warfare Systems Center Pacific, Code 72120, 53560 Hull St., Bldg. A33 Room 2531, San Diego, CA 92152-5001.

FOR FURTHER INFORMATION CONTACT: Brian Suh, Office of Research and Technology Applications, Space and Naval Warfare Systems Center Pacific, Code 72120, 53560 Hull St., Bldg. A33 Room 2531, San Diego, CA 92152-5001, telephone (619) 553-5118, email: brian.suh@navy.mil.

Authority: 35 U.S.C. 207, 37 CFR part 404.

Dated: October 26, 2011.
L. M. Senay,
Lieutenant, Office of the Judge Advocate, U.S. Navy, Alternate Federal Register Liaison Officer.

[FR Doc. 2011-28359 Filed 11-1-11; 8:45 am]

BILLING CODE 3810-FF-P